DEPARTMENT OF COMMERCE

Bureau of Industry and Security

Emerging Technology and Research Advisory Committee; Notice of Open Meeting

The Emerging Technology and Research Advisory Committee (ETRAC) will meet on September 23, 2008, at 10:30 a.m., in the Herbert C. Hoover Building, Room 4830, 14th Street between Constitution and Pennsylvania Avenues, NW., Washington, DC. The Committee advises the Office of the Assistant Secretary for Export Administration on technical questions that affect controls on research and emerging technology activities, including those related to deemed exports.

Agenda

1. Welcome and introductions.

2. Remarks from Bureau of Industry and Security (BIS) management.

3. Current deemed export control policy issues and initiatives, including BIS's notice of inquiry published on May 19, 2008 (73 FR 28795) and extended on August 22, 2008 (73 FR 49645) requesting comments on two Deemed Export Advisory Committee recommendations.

4. Emerging technology and research and development issues.

5. U.S. competitiveness.

6. Public comments.

7. Priorities and workplan.

The open session will be accessible via teleconference to 20 participants on a first come, first serve basis. To join the conference, submit inquiries to Ms. Yvette Springer at Yspringer@bis.doc.gov, no later than September 16, 2008.

The meeting will be open to the public and a limited number of seats will be available. To the extent that time permits, members of the public may present oral statements to the Committee. Written statements may be submitted at any time before or after the meeting. However, to facilitate distribution of public presentation materials to the Committee members, presenters should forward the public presentation materials one week prior to the meeting date to Yvette Springer at Yspringer@bis.doc.gov.

For more information contact Yvette Springer on (202) 482-2813.

Dated: September 4, 2008.
Yvette Springer,
Committee Liaison Officer.

[FR Doc. E8-20904 Filed 9-8-08; 8:45 am]

BILLING CODE 3510-JT-P